DEPARTMENT OF TRANSPORTATION

Federal Highway Administration

Notice To Rescind a Notice of Intent To Prepare an Environmental Impact Statement: Dallas County, Texas

AGENCY: Texas Department of Transportation (TxDOT), Federal Highway Administration (FHWA), Department of Transportation.

ACTION: Notice to rescind a Notice of Intent to prepare an Environmental Impact Statement (EIS).

SUMMARY: FHWA, on behalf of TxDOT, is issuing this notice to advise the public that we are rescinding the Notice of Intent (NOI) for the proposed SH 190 project from IH 30 to IH 20 in southeast Dallas County. An NOI to prepare an EIS was published in the Federal Register on July 1, 2005.

FOR FURTHER INFORMATION CONTACT: Travis Owens, P.E., Transportation Engineer, 4777 E. Highway 80, Mesquite, Texas, 75150; telephone: (214) 320-6625; email: travis.owens@txdot.gov. TxDOT's normal business hours are 8:00 a.m.-5:00 p.m., Monday through Friday.

SUPPLEMENTARY INFORMATION: The environmental review, consultation, and other actions required by applicable Federal environmental laws for this project are being, or have been, carried-out by TxDOT pursuant to 23 U.S.C. 327 and a Memorandum of Understanding dated December 16, 2014, and executed by FHWA and TxDOT. FHWA, in cooperation with TxDOT, published an NOI in the Federal Register on July 1, 2005. Because so much time has passed since the original NOI, TxDOT is rescinding the old NOI and will publish a new NOI to re-initiate the EIS process. The new NOI should be published in the Federal Register either in this edition or in the near future. Comments or questions concerning this proposed action should be directed to TxDOT at the address provided above.

(Catalog of Federal Domestic Assistance Program Number 20.205, Highway Planning and Construction.)

Issued on: March 13, 2017.
Michael T. Leary,
Director, Planning and Program Development, Federal Highway Administration.

[FR Doc. 2017-05367 Filed 3-16-17; 8:45 am]

BILLING CODE 4910-22-P